INTERNATIONAL TRADE COMMISSION

[Inv. No. 337-TA-1430]

Certain Urine Splash Guards and Components Thereof; Institution of Investigation

AGENCY: U.S. International Trade Commission.

ACTION: Notice.

SUMMARY: Notice is hereby given that a complaint was filed with the U.S. International Trade Commission on December 6, 2024, under section 337 of the Tariff Act of 1930, as amended, on behalf of For Kids By Parents, Inc. of Potomac, Maryland. The complaint alleges violations of section 337 based upon the importation into the United States, the sale for importation, and the sale within the United States after importation of certain urine splash guards and components thereof by reason of the infringement of certain claims of U.S. Patent No. 7,870,619 (“the '619 patent”) and U.S. Patent No. 11,812,901 (“the '901 patent”). The complaint further alleges that an industry in the United States exists as required by the applicable Federal Statute. The complainant requests that the Commission institute an investigation and, after the investigation, issue a general exclusion order, or in the alternative a limited exclusion order, and cease and desist orders.

ADDRESSES: The complaint, except for any confidential information contained therein, may be viewed on the Commission's electronic docket (EDIS) at https://edis.usitc.gov. For help accessing EDIS, please email EDIS3Help@usitc.gov. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov.

FOR FURTHER INFORMATION CONTACT: Pathenia M. Proctor, The Office of Unfair Import Investigations, U.S. International Trade Commission, telephone (202) 205-2560.

SUPPLEMENTARY INFORMATION:

Authority: The authority for institution of this investigation is contained in section 337 of the Tariff Act of 1930, as amended, 19 U.S.C. 1337, and in section 210.10 of the Commission's Rules of Practice and Procedure, 19 CFR 210.10 (2024).

Scope of Investigation: Having considered the complaint, the U.S. International Trade Commission, on January 6, 2025, ordered that—

(1) Pursuant to subsection (b) of section 337 of the Tariff Act of 1930, as amended, an investigation be instituted to determine whether there is a violation of subsection (a)(1)(B) of section 337 in the importation into the United States, the sale for importation, or the sale within the United States after importation of certain products identified in paragraph (2) by reason of infringement of one or more of claims 1 and 2 of the '619 patent and claims 1-3 of the '901 patent, and whether an industry in the United States exists as required by subsection (a)(2) of section 337;

(2) Pursuant to section 210.10(b)(1) of the Commission's Rules of Practice and Procedure, 19 CFR 210.10(b)(1), the plain language description of the accused products or category of accused products, which defines the scope of the investigation, is “a flat sheet of flexible material, a portion of which is divided into a plurality of attachment tabs, to be fashioned and, with the aid of an adhesive compound applied to the attachment tabs, affixed to the underside of a toilet seat to prevent urine egress through a gap between the toilet seat and toilet bowl;”

(3) For the purpose of the investigation so instituted, the following are hereby named as parties upon which this notice of investigation shall be served:

(a) The complainant is:

For Kids By Parents, Inc., 1385 Kimblewick Road, Potomac, Maryland 20854

(b) The respondents are the following entities alleged to be in violation of section 337, and are the parties upon which the complaint is to be served:

Shenzhenshi Dijiaaotuman Trading Co., Ltd. (d/b/a Tigaman), Shangfen Community, Minzhi Street, Longhua District No. 201, Longwu Industrial Zone, Shenzhen, Guangdong, 518000, China

Junyaxincaiwuzixunyouxiangongsi (d/b/a Junyxin), Room 307, No. 15, Dong'an Dongshanli, Xiamen City, Jimei District, Fujian Province, 361021 China

Hezeyunjiangjixieshebeiyouxiangongsi (d/b/a Maomaohouse), No. 203, No. 2, Lane 4, Huangjin South Road, Nanwan Street, Longgang District, Shenzhen, Guangdong Province, 518000 China

Shenzhenshiranbodianziyouxiangongsi (d/b/a Eurbus), Room 1205, No. 3, Yuandun Road, Danzhutou Community, Nanwan Street, Shenzhen, Longgang District, 518114 China

Hefeiweifengshidaishidaimaoyiyouxiangongsi (d/b/a HealthSTEC), Baohe District, Room 104, Building 23, Area A, Wenchang Xincun, Hefei City, Anhui, 230000 China

ShenzhenShi Julonghui Trading Co., Ltd. (d/b/a Edermurs), Bantian Subdistrict, Room 812, 8th Floor, Donglian E-Times Building, No. 4, Zhongxing Road, Ma'antang, Shenzhen, Longgang District, Guangdong Province, 518000 China

Shenzhenshi Lishian Keji Youxiangongsi (d/b/a Lishian), Room 601, No. 10, University City Pioneer Park, Lishan Road, Pingshan Community, Taoyuan street, Nanshan District, Shenzhen, Guangdong Province, 518000 China

Shenzhen Paisi Industrial Co., Ltd. (d/b/a Sunyoka123), Gangtou Industrial Zone, Yabian Community, Shajing Street, Room 506, Building B, Haoyi Commercial and Residential Building, Shenzhen, Bao'an District, Guangdong Province, 518125 China

Guangzhou Lesenyu Dianzishangwu Youxiangongsi (d/b/a Le Sengyu), No. 1268 Guangzhou Avenue Middle, 803A (Room 2138), Guangzhou, Tianhe District, Guangdong Province, 510620 China

Shenzhen Sibaite Industrial Co., Ltd. (d/b/a SeLucky), Gangtou Industrial Zone, Yabian Community, Shajing Street, Building B, 501, Haoyi Commercial and Residential Building, Shenzhen City, Bao'an District, Guangdong Province, 518104 China

(c) The Office of Unfair Import Investigations, U.S. International Trade Commission, 500 E Street SW, Suite 401, Washington, DC 20436; and

(4) For the investigation so instituted, the Chief Administrative Law Judge, U.S. International Trade Commission, shall designate the presiding Administrative Law Judge.

Responses to the complaint and the notice of investigation must be submitted by the named respondents in accordance with section 210.13 of the Commission's Rules of Practice and Procedure, 19 CFR 210.13. Pursuant to 19 CFR 201.16(e) and 210.13(a), as amended in 85 FR 15798 (March 19, 2020), such responses will be considered by the Commission if received not later than 20 days after the date of service by the complainant of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: January 6, 2025.
Susan Orndoff,
Supervisory Attorney.

[FR Doc. 2025-00431 Filed 1-10-25; 8:45 am]

BILLING CODE 7020-02-P